DEPARTMENT OF LABOR

Employment and Training Administration

[TA-W-54,957]

Union Carbide Corporation, A Subsidiary of The Dow Chemical Company, West Virginia Operations, South Charleston, WV; Amended Notice of Revised Determination on Reopening

In accordance with section 223 of the Trade Act of 1974 (19 U.S.C. 2273) the Department of Labor issued a Revised Determination on Reopening on July 26, 2004, applicable to workers of Union Carbide Corporation, a subsidiary of The Dow Chemical Company, West Virginia Operations, South Charleston, West Virginia. The notice was published in the Federal Register on August 4, 2004 (68 FR 62834).

At the request of the State agency, the Department reviewed the revised determination for workers of the subject firm. The workers at the West Virginia Operations, South Charleston, West Virginia, are engaged in the production of chemicals or derivatives thereof.

The State agency reports that some workers wages at the subject firm have been reported to the Unemployment Insurance (UI) tax account for the parent company, The Dow Chemical Company. Therefore, to clarify worker group coverage, the revised determination is being amended to include the workers at the West Virginia Operations, South Charleston, West Virginia, whose wages are reported to The Dow Chemical Company UI account.

The intent of the Department's certification is to include all workers of Union Carbide Corporation, a subsidiary of The Dow Chemical Company, West Virginia Operations, South Charleston, West Virginia, who were adversely affected by increased imports.

The amended notice applicable to TA-W-54,957 is hereby issued as follows:

All workers of Union Carbide Corporation, a subsidiary of The Dow Chemical Company, West Virginia Operations, including those workers whose unemployment insurance wages were reported to The Dow Chemical Company, South Charleston, West Virginia, who became totally or partially separated from employment on or after September 9, 2002, through October 17, 2005, are eligible to apply for adjustment assistance under section 223 of the Trade Act of 1974.

Signed in Washington, DC, this 19th day of October, 2004.
Linda G. Poole,
Certifying Officer, Division of Trade Adjustment Assistance.

[FR Doc. E4-2844 Filed 10-25-04; 8:45 am]

BILLING CODE 4510-30-P